DEPARTMENT OF ENERGY

Federal Energy Regulatory Commission

[Docket No. RP00-415-000]

Kern River Gas Transmission Company; Notice of Proposed Changes in FERC Gas Tariff

July 26, 2000.

Take notice that on July 21, 2000, Kern River Gas Transmission Company (Kern River) tendered a non-conforming service agreement and the following tariff sheets for filing as part of its FERC Gas Tariff, Second Revised Volume No. 1, to be effective August 20, 2000.

First Revised Sheet No. 2

Sheet Nos. 423-489 (Reserved)

Original Sheet No. 490

Sheet Nos. 491-499 (Reserved)

First Revised Sheet No. 911

Kern River states that the purpose of this filing is to submit a Rate Schedule KRF-1 transportation service agreement between Southwest Gas Corporation and Kern River that does not conform to Kern River's Rate Schedule KRF-1, and to reference this agreement in Kern River's tariff.

Kern River states that it has served a copy of this filing upon its customers and interested state regulatory commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-08-2222 for assistance).

David P. Boergers,
Secretary.

[FR Doc. 00-19320 Filed 7-28-00; 8:45 am]

BILLING CODE 6717-01-M